DEPARTMENT OF EDUCATION

34 CFR Chapter II

[Docket ID ED-2020-OESE-0172]

Proposed Priorities, Requirements, and Definitions—Expanding Opportunity Through Quality Charter Schools Program (CSP)—National Dissemination Grants

AGENCY: Office of Elementary and Secondary Education, Department of Education.

ACTION: Proposed priorities, requirements, and definitions.

SUMMARY: The Assistant Secretary for Elementary and Secondary Education proposes priorities, requirements, and definitions for the Expanding Opportunity Through Quality Charter Schools Program (CSP)—National Dissemination Grants, Assistance Listing Number 84.282T. We may use one or more of these priorities, requirements, and definitions for competitions in fiscal year (FY) 2021 and later years. We take this action to ensure that CSP National Dissemination Grants are aligned with the statutory purposes of the CSP and address key national policy issues. Specifically, the proposed priorities, requirements, and definitions focus on disseminating best practices for strengthening charter school authorizing and oversight; improving charter school access to facilities and facility financing; increasing educational choice for students with disabilities, English learners, and other traditionally underserved student groups, including Native American students and students in rural communities.

DATES: We must receive your comments on or before January 22, 2021.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Help.”

• Postal Mail, Commercial Delivery, or Hand Delivery: If you mail or deliver your comments about these proposed priorities, requirements, and definitions, address them to Cheryl Ford, U.S. Department of Education, 400 Maryland Avenue SW, Room 3E207, Washington, DC 20202-5970.

Privacy Note: The Department's policy is to make all comments received from members of the public available for public viewing in their entirety on the Federal eRulemaking Portal at www.regulations.gov. Therefore, commenters should be careful to include in their comments only information that they wish to make publicly available.

FOR FURTHER INFORMATION CONTACT: Cheryl Ford, U.S. Department of Education, 400 Maryland Avenue SW, Room 3E207, Washington, DC 20202-5970. Telephone: (202) 401-1366. Email: charterschools@ed.gov.

If you use a telecommunications device for the deaf (TDD) or a text telephone (TTY), call the Federal Relay Service (FRS), toll free, at 1-800-877-8339.

SUPPLEMENTARY INFORMATION:

Invitation to Comment: We invite you to submit comments regarding the proposed priorities, requirements, and definitions. To ensure that your comments have maximum effect in developing the notice of final priorities, requirements, and definitions, we urge you to identify clearly the specific section of the proposed priority, requirement, or definition that each comment addresses.

We invite you to assist us in complying with the specific requirements of Executive Orders 12866, 13563, and 13771 and their overall requirement of reducing regulatory burden that might result from these proposed priorities, requirements, and definitions. Please let us know of any further ways we could reduce potential costs or increase potential benefits while preserving the effective and efficient administration of the program.

During and after the comment period, you may inspect all public comments about the proposed priorities, requirements, and definitions by accessing Regulations.gov. Due to the current COVID-19 public health emergency, the Department buildings are not open to the public. However, upon reopening, you may also inspect the comments in person at 400 Maryland Avenue SW, Room 3E207, Washington, DC, between the hours of 8:30 a.m. and 4:00 p.m., Eastern Time, Monday through Friday of each week except Federal holidays.

Assistance to Individuals with Disabilities in Reviewing the Rulemaking Record: On request, we will provide an appropriate accommodation or auxiliary aid to an individual with a disability who needs assistance to review the comments or other documents in the public rulemaking record for the proposed priorities, requirements, and definitions. If you want to schedule an appointment for this type of accommodation or auxiliary aid, please contact the person listed under FOR FURTHER INFORMATION CONTACT.

Purpose of Program: The major purposes of the CSP are to expand opportunities for all students, particularly traditionally underserved students, to attend charter schools and meet challenging State academic standards; provide financial assistance for the planning, program design, and initial implementation of charter schools; increase the number of high-quality charter schools available to students across the United States; evaluate the impact of charter schools on student achievement, families, and communities; share best practices between charter schools and other public schools; encourage States to provide facilities support to charter schools; and support efforts to strengthen the charter school authorizing process.

Through CSP National Dissemination Grants, the Department provides funds on a competitive basis to support efforts by eligible entities to help increase the number of high-quality charter schools available to our Nation's students by disseminating best practices regarding charter schools.

Program Authority: Section 4305(a)(3)(B) of the Elementary and Secondary Education Act of 1965, as amended (ESEA), 20 U.S.C. 7221d(a)(3)(B).

Background: The Department last conducted a National Dissemination Grants competition in FY 2018. In that competition, we invited applications for projects designed to disseminate best practices for strengthening charter school authorizing and oversight or improving charter school access to facilities and facility financing, both key policy issues facing charter schools on a national scale. This document proposes similar priorities, requirements, and definitions as the last competition in order to continue to address these key policy issues. These priorities, requirements, and definitions take into consideration the continuing growth of charter schools across the Nation and the increasing need to support the capacity and oversight of all charter schools. The priorities also recognize the important role that charter schools can play in increasing educational choice for students with disabilities, English learners, and other traditionally underserved student groups including Native American students and students in rural communities.

Proposed Priorities

This document contains four proposed priorities. These priorities are:

Proposed Priority 1—Strengthening Charter School Authorizing and Oversight.

Background: One of the statutory purposes of the CSP is to support efforts to strengthen the charter school authorizing process to improve performance management, including transparency, oversight and monitoring (including financial audits), and evaluation of charter schools. Also, the CSP supports quality, accountability, and transparency in the operational performance of all authorized public chartering agencies, including State educational agencies (SEAs), local educational agencies (LEAs), and other authorizing entities. Specifically, the CSP State Entity Grants program has a strong focus on authorizing, including a requirement that grantees reserve a portion of funds to provide technical assistance to authorized public chartering agencies and work with them to improve authorizing quality. This priority would support that emphasis by prioritizing projects that propose to develop, identify, or expand, and disseminate information on best practices in authorizing and the oversight of charter schools by authorized public chartering agencies.

Authorizers are responsible for conducting rigorous application reviews to ensure new charter schools can be of high quality. They are also responsible for establishing clear and consistent policies to hold schools accountable for meeting their academic, financial, and operational performance goals, as well as complying with all applicable laws—including civil rights laws requiring equal access. Through this priority, the Department expects that the implementation of strong authorizing practices will proliferate and continuously improve the quality of the charter school sector.

Proposed Priority: Projects that are designed to develop, identify, or expand, and disseminate information on best practices in authorizing and overseeing charter schools by authorized public chartering agencies in one or more of the following areas:

(a) Conducting charter school application reviews.

(b) Establishing governance standards and practices for charter schools.

(c) Promoting and monitoring the compliance of charter schools and authorized public chartering agencies with Federal, State, and local academic, financial, governance, operational (including school safety), or other applicable requirements.

(d) Evaluating the performance of charter schools or authorized public chartering agencies.

(e) Facilitating the replication and expansion of high-quality charter schools.

(f) Improving the academic, financial, or operational performance of charter schools.

(g) Closing persistently underperforming charter schools.

To meet this priority, an applicant must propose to disseminate best-practices information in multiple locations in at least two States with a charter school law.

Proposed Priority 2—Targeting Educational Agencies with the Most Need.

Background: This priority would target information dissemination efforts toward those entities with the greatest need, which include States with new or significantly revised charter school laws or policies.

To increase opportunities for authorized public chartering agencies to establish new, high-quality operational procedures, and because the period following enactment or revision of charter school laws and policies is most critical to their successful implementation, this priority would focus on States where new or revised charter school laws and policies have been adopted within the last five years. In addition, the priority would target dissemination efforts to aid the development of authorized public chartering agencies that support 10 or fewer schools and, accordingly, have limited resources related to economies of scale, or include struggling schools under their purview.¹

¹ National Organization of Charter School Authorizers(NACSA). (2009). A Report on NACSA's Authorizer Survey. Chicago: National Organization of Charter School Authorizers. Retrieved from www.qualitycharters.org/wp-content/uploads/2015/08/NACSA_2008-SOCA.pdf.

Through this priority, the Department would support projects that target information on best practices to improve the overall quality of, and the ability of State entities to grow, the charter school sector within their States.

Proposed Priority: Projects that propose to target information dissemination to one or more of the following:

(a) States that have enacted laws in the last five years allowing charter schools to open.

(b) States that in the last five years have significantly changed their laws, regulations, or policies regarding authorizing or oversight of charter schools by authorized public chartering agencies.

(c) Authorized public chartering agencies with fewer than 10 charter schools.

(d) Authorized public chartering agencies that authorize a significant number of charter schools experiencing significant low performance or non-compliance with Federal, State, or local academic, financial, governance, operational (including school safety), or other applicable requirements.

Proposed Priority 3—Improving Charter School Access to Facilities and Facility Financing.

Background: Limited access to adequate facilities and to funding for facilities, including per-pupil facilities aid, remains a significant issue impacting growth in the number of charter schools available to students throughout the United States. To help address this issue, this priority would support projects that develop, identify, or expand, and disseminate information on, best practices in supporting charter schools in accessing and financing facilities.

Proposed Priority: Projects that are designed to develop, identify, or expand, and disseminate information on, best practices in supporting charter schools in accessing and financing facilities, including in one or more of the following areas:

(a) Access to public and private (including philanthropic) funding, including from a Qualified Opportunity Fund under section 1400Z-2 of the Internal Revenue Code, as amended by the Tax Cuts and Jobs Act (115 Pub. L. 97), for one or more of the following, as needed to open or to replicate or expand a charter school:

(1) The acquisition (by purchase, lease, donation, or otherwise) of an interest (including an interest held by a third party for the benefit of the school) in improved or unimproved real property.

(2) The construction of new facilities, or the renovation, repair, or alteration of existing facilities.

(3) The predevelopment costs required to assess sites for purposes of paragraph (a)(1) or (a)(2) of this priority.

(4) The acquisition of other tangible property.

(b) Access to public facilities, including the right of first refusal.

(c) Access to per-pupil facilities aid to charter schools to provide the schools with funding that is dedicated solely to charter school facilities.

(d) Access to credit enhancements and other subsidies.

(e) Access to bonds or mill levies by charter schools, or by other public entities for the benefit of charter schools.

(f) Planning for facility acquisition by charter schools, including comprehensive analysis of facility needs.

To meet this priority, an applicant must propose to disseminate best-practices information in multiple locations in at least two States with a charter school law.

Proposed Priority 4—Empowering Underserved Students and Their Families to Choose a High-Quality Education that Meets Their Unique Needs.

Background: One of the statutory purposes of the CSP is to expand opportunities for children with disabilities, English learners, and other traditionally underserved students to attend charter schools and meet challenging State academic standards. This priority is intended to target funding to projects that help provide educational choice to these underserved student groups, which include educationally disadvantaged children, students who reside or attend schools in Qualifed Opportunity Zones (i.e., designated distressed communities), students who are Native American, and students who are served by rural local educational agencies.

An applicant addressing this proposed priority would describe how its proposed project is designed to increase access to charter schools for one or more of these groups. An applicant might address this priority, for instance: (1) Through its plan to develop, identify, or expand best practices related to serving students in one or more of these underserved groups; (2) through disseminating best practices in areas with high concentrations of one or more of these student groups; or (3) by targeting its project work in areas in which students in one or more of the student groups are at risk of educational failure or otherwise in need of special assistance or support.

Proposed Priority: Projects that are designed to address increasing access to charter schools for one or more of the following groups of children or students:

(a) Educationally disadvantaged children.

(b) Children or students who reside or attend school in a Qualified Opportunity Zone, as designated by the Secretary of the Treasury under section 1400Z-1 of the Internal Revenue Code, as amended by the Tax Cuts and Jobs Act.

(c) Students who are Native Americans. Specifically, projects serving students in this category must focus on addressing the unique educational needs of Native American students, such as through the use of instructional programs and teaching methods that reflect and preserve Native American language, culture, and history.

(d) Children or students in communities served by rural local educational agencies.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

Background: In an effort to improve project outcomes, the Department is proposing requirements that are necessary for the proper consideration of applications for National Dissemination Grants in order to increase the likelihood of success of applicants' proposed projects. In disseminating best practices regarding charter schools, grantees would contribute to the efficient use of taxpayer dollars in supporting the charter school sector and increasing the number of high-quality charter schools available to our Nation's students. We also propose eligibility requirements, to ensure that grantees have the preparation and experience to implement a National Dissemination Grant successfully.

Proposed Requirements: We propose the following requirements for this program. We may apply one or more of these requirements in any year in which this program is administered.

Applicants for funds under this program must address one or more of the following application requirements:

(a) Provide a project plan, including a logic model (as defined in 34 CFR 77.1), that describes the purpose of the project; includes clearly specified, measurable project objectives that are aligned with the project purpose; and includes the specific strategies and initiatives that will be implemented to accomplish project objectives. For each project objective, the project plan must include one or more of the following—

(i) Inputs and Resources: Identification of the specific costs that will be allocated to the proposed project. These costs must represent the inputs and resources (e.g., personnel, contracted services, supplies, and equipment) that are necessary to generate and support grant project activities, and are necessary to produce project outputs. Applicants must ensure that the total project costs, as identified in this section, are consistent with U.S. Department of Education Budget Information Non-Construction Programs Form 524, 34 CFR 75.210 and responses to applicable selection criteria;

(ii) Project Activities: Identification of the specific activities proposed to be funded under the grant; the estimated cost of those activities under the grant project; and how these activities are linked to the target grant project outputs and outcomes;

(iii) Project Outputs: Identification of the specific project deliverables, work products, and other outputs of the proposed project, including the cost of those outputs (if not already itemized in response to paragraph (a)(ii) Project Activities). Examples of outputs include—

(1) Best practice publications and products;

(2) Evaluation reports; and

(3) Presentation of a session at a conference delivering best practices for stakeholders.

(iv) Project Outcomes: Identification of the anticipated project outcomes or effects as a result of the proposed project.

(b) Provide a management plan that describes clearly defined responsibilities, timelines, and milestones for executing the project and achieving project outcomes.

(c) Provide a dissemination plan that includes the number and description of States, charter schools, or authorized public chartering agencies to which best-practices information will be disseminated, as well as a description of the mechanisms the applicant will use to disseminate information on its proposed projects.

(d) Provide an evaluation plan that includes performance measures that are aligned to the project purpose, project objectives, and project outcomes as well as to the intended outcomes of the proposed project.

Proposed Eligibility Requirements: Eligibility for a grant under this competition is limited to SEAs; State charter school authorizing boards; State Governors; charter school support organizations; authorized public chartering agencies; and public and private nonprofit organizations that operate, manage, or support charter schools.

Eligible applicants may apply as a partnership or consortium and, if so applying, must comply with the requirements for group applications set forth in 34 CFR 75.127-129.

Public and private nonprofit organizations that operate, manage, or support charter schools must apply in partnership with one or more SEAs, State charter school boards, State Governors, charter school support organizations, or authorized public chartering agencies.

Proposed Funding Restrictions: Grant funds may be used only for activities that are related to the development, identification, expansion, and dissemination of information on best practices regarding the priority to which the applicant is responding and that are included in the grantee's approved application. Grantees may not use grant funds to conduct charter school authorizing activities, or to open new charter schools, or replicate or expand existing charter schools. Grantees may not use grant funds to acquire or finance the acquisition of a charter school facility, including through credit enhancement, direct lending, or subgrants. Grantees may not use grant funds for general organizational operating support beyond the costs associated with this grant project. No more than 5 percent of grant funds may be used for direct administration of the grant project.

Proposed Definitions

We propose the following definitions for this program. We may apply one or more of these definitions in any year in which the program is in effect.

Background: In order to ensure a common understanding of the proposed priorities and requirements, we propose definitions that are critical to the policy and statutory purposes of the National Dissemination Grant program. We propose these definitions to clarify expectations for eligible entities applying for National Dissemination Grants and to ensure that the review process for applications for National Dissemination Grants remains as transparent as possible. The proposed definition for “rural local educational agency” is based on the definition from the Secretary's Final Supplemental Priorities and Definitions for Discetionary Grant Programs published in the Federal Register on March 2, 2018 (83 FR 9096). The proposed definition for “educationally disadvantaged children” is based on section 1115(c)(2) of the ESEA (20 U.S.C. 6315).

Educationally disadvantaged children means a student in one or more of the categories described in section 1115(c)(2) of the ESEA, which include children who are economically disadvantaged, children with disabilities, migrant students, English learners, neglected or delinquent students, homeless students, and students who are in foster care.

Native American means an Indian (including an Alaska Native), as defined in section 6151(3) of the ESEA, Native Hawaiian, or Native American Pacific Islander.

Rural local educational agency means an LEA that is eligible under the Small Rural School Achievement (SRSA) program or the Rural and Low-Income School (RLIS) program authorized under Title V, Part B of the ESEA. Eligible applicants may determine whether a particular LEA is eligible for these programs by referring to information on the Department's website at https://oese.ed.gov/offices/office-of-formula-grants/rural-insular-native-achievement-programs/rural-education-achievement-program/.

Final Priorities, Requirements, and Definitions: We will announce the final priorities, requirements, and definitions in a document published in the Federal Register. We will determine the final priorities, requirements, and definitions after considering responses to the proposed priorities, requirements, and definitions and other information available to the Department. This document does not preclude us from proposing additional priorities, requirements, definitions, or selection criteria, subject to meeting applicable rulemaking requirements.

Note: This document does not solicit applications. In any year in which we choose to use one or more of these priorities, requirements, and definitions, we invite applications through a notice in the Federal Register.

Executive Orders 12866, 13563, and 13771

Regulatory Impact Analysis

Under Executive Order 12866, the Office of Management and Budget (OMB) determines whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

OMB has determined that this proposed regulatory action is not a significant regulatory action subject to review by OMB under section 3(f) of Executive Order 12866.

Under Executive Order 13771, for each new rule that the Department proposes for notice and comment or otherwise promulgates that is a significant regulatory action under Executive Order 12866, and that imposes total costs greater than zero, it must identify two deregulatory actions. For FY 2021, any new incremental costs associated with a new rule must be fully offset by the elimination of existing costs through deregulatory actions. Because the proposed regulatory action is not significant, the requirements of Executive Order 13771 do not apply.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, and definitions only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Discussion of Potential Costs and Benefits

The Department believes that this proposed regulatory action would impose minimal costs on eligible entities, whose participation in this program is voluntary, and expects that participants would include in their proposed budgets a request for funds to support compliance with any cost-bearing requirements, if necessary. We believe any costs associated with this regulatory action would be outweighed by its benefits, which include helping ensure that CSP funds support the dissemination of best practices on topics critical to the charter school sector and contribute to an increased number of high-quality educational options available to the Nation's students.

Paperwork Reduction Act of 1995

As part of its continuing effort to reduce paperwork and respondent burden, the Department provides the general public and Federal agencies with an opportunity to comment on proposed and continuing collections of information, in accordance with the Paperwork Reduction Act of 1995 (PRA) (44 U.S.C. 3506(c)(2)(A)). This helps ensure that the public understands the Department's collection instructions, respondents can provide the requested data in the desired format, reporting burden (time and financial resources) is minimized, collection instruments are clearly understood, and the Department can properly assess the impact of collection requirements on respondents.

The proposed priorities, requirements, and definitions contain information collection requirements (ICR) for the program application package. As a result of the proposed priorities, requirements, and definitions, we will seek approval to use the 1894-0006 collection and 34 CFR 75.210. In Table 1 below, we assume 15 applicants each spend 40 hours preparing their applications.

Table 1—National Dissemination Grants Program Information Collection Status
OMB control No. | Expiration | Current burden (total hours) | Proposed burden (total hours) | Proposed action under final priorities
1894-0006 | January 31, 2021 | 0 | Applicants: 600 hours | Obtain approval under 1894-0006.

Clarity of the Regulations

Executive Order 12866 and the Presidential memorandum “Plain Language in Government Writing” require each agency to write regulations that are easy to understand.

The Secretary invites comments on how to make these proposed priorities, requirements, and definitions easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections?

• Could the description of the proposed regulations in the SUPPLEMENTARY INFORMATION section of this preamble be more helpful in making the proposed regulations easier to understand? If so, how?

• What else could we do to make the proposed regulations easier to understand?

To send any comments that concern how the Department could make these proposed regulations easier to understand, see the instructions in the ADDRESSES section.

Regulatory Flexibility Act Certification: The Secretary certifies that this proposed regulatory action would not have a significant economic impact on a substantial number of small entities. The U.S. Small Business Administration (SBA) Size Standards define ”small entities” as for-profit or nonprofit institutions with total annual revenue below $7,000,000 or, if they are institutions controlled by small governmental jurisdictions (that are comprised of cities, counties, towns, townships, villages, school districts, or special districts), with a population of less than 50,000. Nonprofit institutions are defined as small entities if they are independently owned and operated and not dominant in their field of operation.

Participation in this program is voluntary and limited to entities seeking to disseminate best-practice information regarding charter schools. The Department anticipates that approximately 15 entities will apply for National Dissemination Grants in a given year and estimates that fewer than half of these entities will be small entities. For this limited number of small entities, any cost-bearing requirements imposed by this regulatory action can be defrayed with grant funds, as discussed in the Regulatory Impact Analysis section of this document.

Intergovernmental Review: This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank T. Brogan,
Assistant Secretary for Elementary and Secondary Education.

[FR Doc. 2020-28411 Filed 12-22-20; 8:45 am]

BILLING CODE 4000-01-P